DEPARTMENT OF EDUCATION

[Docket No.: ED-2022-SCC-0082]

Agency Information Collection Activities; Submission to the Office of Management and Budget for Review and Approval; Comment Request; FAFSA Form Demographic Survey

AGENCY: Federal Student Aid (FSA), Department of Education (ED).

ACTION: Notice

SUMMARY: In accordance with the Paperwork Reduction Act of 1995, ED is proposing a new collection.

DATES: Interested persons are invited to submit comments on or before September 23, 2022.

ADDRESSES: Written comments and recommendations for proposed information collection requests should be sent within 30 days of publication of this notice to www.reginfo.gov/public/do/PRAMain. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Beth Grebeldinger, (202) 377-4018.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed ICR that is described below. The Department is especially interested in public comments addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public record.

Title of Collection: FAFSA Form Demographic Survey.

OMB Control Number: 1845-NEW.

Type of Review: New collection.

Respondents/Affected Public: Individuals or Households.

Total Estimated Number of Annual Responses: 19,727,003.

Total Estimated Number of Annual Burden Hours: 650,991.

Abstract: The U.S. Department of Education (the Department) is requesting a new information collection to gather demographic information in conjunction with the Free Application for Federal Student Aid (FAFSA) form. The FAFSA Simplification Act (FSAct) passed as part of the Consolidated Appropriations Act, 2021 (Pub. L. 116-260) amends the Higher Education Act of 1965, Title IV, Sec 483 (B)(ii)(VII) to add sex and race or ethnicity as information required to be provided by the applicant on the Free Application for Federal Student Aid (FAFSA) form. For the launch of the 2023-24 FAFSA on October 1, 2022, FSA will ask the demographic questions in a pilot, voluntary survey format in order to collect specific feedback on the new questions. This feedback will inform the development of the questions for full implementation within the FAFSA form for the 2024-2025 award year.

Dated: August 18, 2022.
Kun Mullan,
PRA Coordinator, Strategic Collections and Clearance, Governance and Strategy Division, Office of Chief Data Officer, Office of Planning, Evaluation and Policy Development.

[FR Doc. 2022-18165 Filed 8-23-22; 8:45 am]

BILLING CODE 4000-01-P